DEPARTMENT OF LABOR

Employment and Training Administration

[TA-W-56,322]

Roseburg Forest Products Particleboard Plant a Subsidiary of RLC Industries Roseburg, OR; Negative Determination on Reconsideration

On April 6, 2005, the Department issued an Affirmative Determination Regarding Application for Reconsideration for the workers and former workers of the subject firm. The Department's notice of determination was published in the Federal Register on April 25, 2005 (70 FR 21251).

The Department initially denied Trade Adjustment Assistance (TAA) to former workers of Roseburg Forest Products Particleboard Plant, a Subsidiary of RLC Industries, Roseburg, Oregon, because sales or production did not decline, and there was no shift in production from that firm to a foreign country.

The initial investigation revealed that the value of sales and the quantity of production of particleboard increased in 2004 from 2003 levels and that production did not shift abroad.

In the request for reconsideration, the petitioner, the Western Council of Industrial Workers, Local 2949, alleged that production declined during the fourth quarter of 2004.

During the reconsideration investigation, the Department requested that Roseburg respond to the petitioner's allegation. According to the company officials, the decline in the fourth quarter of 2004 was a seasonal decline due to difficulties of the building trades during extremely harsh winter conditions. Further, workers who were separated during the building lull are usually re-hired once the orders increase as the weather becomes less inclement.

The Department conducts its petition investigations for the one year period prior to the date of the petition. In this case the petition for workers of Roseburg Forest Products Particleboard Plant, Roseburg, Oregon, was dated January 11, 2005. Although the company concurs that there was decline in production during the forth quarter of 2004, during the full year 2004 both sales and production at the subject firm increased.

Conclusion

After reconsideration, I affirm the original notice of negative determination of eligibility to apply for worker adjustment assistance for workers and former workers of Roseburg Forest Products, Particleboard Plant, a Subsidiary of RLC Industries, Roseburg, Oregon.

Signed at Washington, DC, this 6th day of May 2005.
Linda G. Poole,
Certifying Officer, Division of Trade Adjustment Assistance.

[FR Doc. E5-2425 Filed 5-13-05; 8:45 am]

BILLING CODE 4510-30-P